DEPARTMENT OF ENERGY

Agency Information Collection Extension

AGENCY: U.S. Department of Energy.

ACTION: Notice and request for comments.

SUMMARY: The Department of Energy (DOE), pursuant to the Paperwork Reduction Act of 1995, intends to extend for three years, an information collection package with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 19, 2012. If you anticipate difficulty in submitting comments within that period, contact the person listed below as soon as possible.

ADDRESSES: Written comments may be sent to Melissa Scholz and Kasia Mendelsohn, Office of Nonproliferation and International Security (NA-24), National Nuclear Security Administration, 1000 Independence Ave. SW., Washington, DC 20585 or by fax at (202) 586-1348 or by email at Melissa.Scholz@nnsa.doe.gov or Kasia.Mendelsohn@nnsa.doe.gov.

FOR FURTHER INFORMATION CONTACT: Requests for additional information or copies of the information collection instrument and instructions should be directed to the person in ADDRESSES.

SUPPLEMENTARY INFORMATION: This package contains:

(1) OMB No.: 1910-5139;

(2) Package Title: U.S. Declaration under the Protocol Additional to the U.S.-IAEA Safeguards Agreement (“Additional Protocol”) and Collection of Information by the Department of Energy;

(3) Type of Review: Renewal;

(4) Purpose: Obtain information for inclusion by the Department of Energy in the United States Declaration to the International Atomic Energy Agency (IAEA) under Articles 2 and 3 of the Protocol Additional to the Agreement Between the United States of America and the International Atomic Energy Agency for the Application of Safeguards in the United States, Nov. 18, 1977;

The Department of Energy (DOE) is the Lead Agency for implementing the Additional Protocol at locations owned, operated, or leased by or for DOE, including Nuclear Regulatory Commission (NRC) licensed or certified activities on DOE installations, and, in coordination with the Department of Defense, non-military locations on installations that store or process naval reactor fuel (collectively known as “DOE Locations”). Only those persons performing activities at DOE Locations that would be declarable to the IAEA under the U.S. AP are affected by this collection of information by DOE.

(5) Annual Estimated Number of Respondents: 10-15 respondents.

(6) Annual Estimated Number of Total Responses: 10-15 responses per annum.

(7) Annual Estimated Number of Burden Hours: 6000. The burden in person hours of responding to the collection of information will depend on the number of declarable activities that take place at the respondent's location. This effort might range from as low as 40 hours for a location with one or two declarable activities, to as many as 400 hours for a location with many (30-40) activities.

(8) Annual Estimated Reporting and Recordkeeping Cost Burden: None.

Statutory Authority: Section 211 of the Henry J. Hyde United States-India Peaceful Atomic Energy Cooperation Act of 2006, Public Law 109-401 (Dec. 18, 2006), codified at 22 U.S.C. 8111.

Issued in Washington, DC, on December 19, 2011.
Kasia Mendelsohn,
Acting Assistant Deputy Administrator, Office of Nonproliferation and International Security (NIS).

[FR Doc. 2012-947 Filed 1-18-12; 8:45 am]

BILLING CODE 6450-01-P